DEPARTMENT OF ENERGY

Federal Energy Regulatory Commission

[Project Nos. 2364-013, 2365-024]

Madison Paper Industries, Maine; Notice of Docket Assignments

August 1, 2002.

Take notice that the applications for new licenses for the Abenaki and Anson Projects, located on the Kennebec River in Somerset County, Maine, have been assigned docket nos. P-2364-013 and P-2365-024, respectively. Filings under docket nos. 2364-012 and 2365-023, assigned to a Settlement Agreement for the Abenaki and Anson Projects, need not be refiled.

Linwood A. Watson, Jr.,
Deputy Secretary.

[FR Doc. 02-19920 Filed 8-6-02; 8:45 am]

BILLING CODE 6717-01-P